DEPARTMENT OF ENERGY

Federal Energy Regulatory Commission

[Project No. 14257-000]

American River Power I, LLC; Notice of Preliminary Permit Application Accepted for Filing and Soliciting Comments, Motions To Intervene, and Competing Applications

On August 22, 2011, American River Power I, LLC (American River) filed an application for a preliminary permit, pursuant to section 4(f) of the Federal Power Act (FPA), to study the feasibility of the proposed Ellis, Ohio—Water Power Project No. 14257 to be located at the existing Ellis Ohio Lock Dam No. 11 on the Muskingum River, near the township of Ellis, in Muskingum County, Ohio. The Ellis Ohio Lock Dam No. 11 is owned by the State of Ohio. There are no federal lands associated with the project.

The proposed project would consist of: (1) The existing Ellis Dam and reservoir; (2) a new 30-foot by 40-foot powerhouse housing controls, switchgear, and related equipment; (3) new intake structure and trash rack containing four 140-foot-long bays and eight vertical slide gates; (4) a new 40-foot-long by 100-foot-wide power canal with two 50-foot-wide by 40-foot-long bays; (5) four new 625-kilowatt turbine-generator units with a combined capacity of 2.5 megawatts; (6) a new 200-foot-long by 100 to 150-foot wide tailrace; (7) a new 150-foot-long, 12.5 to 34.5-kilovolt transmission line; and (8) appurtenant facilities. The project would have an estimated annual generation of 9,700 megawatt-hours.

Applicant Contact: Mr. John P. Henry, 726 Eldridge Avenue, Collingswood, NJ 08107-1708, (856) 240-0707.

FERC Contact: Tyrone A. Williams, (202) 502-6331.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14257-000) in the docket number field to access the document. For assistance, contact FERC Online Support.

Dated: September 13, 2011.
Kimberly D. Bose,
Secretary.

[FR Doc. 2011-24021 Filed 9-19-11; 8:45 am]

BILLING CODE 6717-01-P-